DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.). Written data or comments should be submitted to the Director, U.S. Fish and Wildlife Service, Division of Management Authority, 4401 North Fairfax Drive, Room 700, Arlington, Virginia 22203 and must be received by the Director within 30 days of the date of this publication.

Applicant: Dana Michelle Bisatti, Southern Methodist University/Department of Geology, Dallas, TX, PRT-025112

The applicant requests a permit to import samples obtained from salvaged leatherback (Dermochelys coriacea) marine turtles collected in Costa Rica for the purpose of scientific research. This notification covers activities conducted by the applicant over a five year period.

Applicant: Owen T. Muramatsu, Kaneohe, HI, PRT-042201

The applicant requests a permit to import the sport-hunted trophy of one male bontebok (Damaliscus pygargus dorcas) culled from a captive herd maintained under the management program of the Republic of South Africa, for the purposes of enhancement of the survival of the species.

Applicant: John Stehle, Craig, CO, PRT-042200

The applicant requests a permit to import the sport-hunted trophy of one male bontebok (Damaliscus pygargus dorcas) culled from a captive herd maintained under the management program of the Republic of South Africa, for the purposes of enhancement of the survival of the species.

Applicant: Mark Neussle, Scottsdale, AZ, PRT-042510

The applicant requests a permit to import the sport-hunted trophy of one male bontebok (Damaliscus pygargus dorcas) culled from a captive herd maintained under the management program of the Republic of South Africa, for the purposes of enhancement of the survival of the species.

Applicant: James A. Crane, Jr., York, SC, PRT-042512

The applicant requests a permit to import the sport-hunted trophy of one male bontebok (Damaliscus pygargus dorcas) culled from a captive herd maintained under the management program of the Republic of South Africa, for the purposes of enhancement of the survival of the species.

Applicant: Exotic Feline Breeding Compound, Inc., Rosamond, CA, PRT-039534

The applicant requests a permit to import one captive-born male Amur leopard (Panthera pardus orientalis) from Jungle Cat World, Orono, Canada for the purpose of enhancement of the species through captive propagation.

Applicant: Riverbanks Zoological Park, Columbia, SC, PRT-40699

The applicant requests a permit to import four live Parma wallabies (Macropus parma) from the Assiniboine Park Zoo, Winnipeg, Canada, for the purpose of enhancement of the survival of the species through captive propagation.

Applicant: Clifford Brooks, Citrus Heights, CA, PRT-042045

The applicant requests a permit to import a sport-hunted cheetah (Acinonyx jubatus) trophy from Namibia for the purpose of enhancement of the survival of the species.

Applicant: Monte L. Bean Life Science Museum, Brigham Young University, Provo, UT, PRT-042049

The applicant requests a permit to import one male and one female giant panda (Ailuropoda melanoleuca) skin and skull from animals that died naturally at the Chang-qing Nature Preserve, Huayang, Yangxian, Shaanxi, China for the purpose of enhancement of the survival of the species.

Applicant: Enoch D. Brandenburg, Mesa, AZ, PRT-042633

The applicant requests a permit to import the sport-hunted trophy of one male bontebok (Damaliscus pygargus dorcas) culled from a captive herd maintained under the management program of the Republic of South Africa, for the purpose of enhancement of the survival of the species.

Applicant: Lisa Jones-Engel/University of New Mexico, Albuquerque, NM, PRT-039959

The applicant requests a permit to import biological samples from captive-held Orangutan (Pongo pygmaeus) and White-handed gibbon (Hylobates lar) collected in Indonesia, for scientific research. This notification covers activities conducted by the applicant over a five year period.

Applicant: University of Colorado, Boulder, CO, PRT-040035

The applicant requests a permit to import hair samples from wild ringtailed lemur (Lemur catta) for the purpose of enhancement of the survival of the species through scientific research. This notification covers activities conducted by the applicant over a five year period.

Marine Mammals

The public is invited to comment on the following application(s) for a permit to conduct certain activities with marine mammals. The application(s) was submitted to satisfy requirements of the Marine Mammal Protection Act of 1972, as amended (16 U.S.C. 1361 et seq.) and the regulations governing marine mammals (50 CFR 18).

Written data, comments, or requests for copies of these complete applications or requests for a public hearing on these applications should be sent to the U.S. Fish and Wildlife Service, Division of Management Authority, 4401 N. Fairfax Drive, Room 700, Arlington, Virginia 22203, telephone 703/358-2104 or fax 703/358-2281. These requests must be received within 30 days of the date of publication of this notice. Anyone requesting a hearing should give specific reasons why a hearing would be appropriate. The holding of such a hearing is at the discretion of the Director.

Applicant: USGS, BRD, Alaska Biological Science Center, Anchorage, AK, PRT-766818

Permit Type: Take for scientific research.

Name and Number of Animals: Southern sea otter (Enhydra lutris nereis), up to 30 animals from California.

Summary of Activity to be Authorized: The applicant has requested a permit to implant 30 adult sea otters of either sex with TDR/transmitter packages for the purpose of scientific research.

Source of Marine Mammals: Central California coast, as described in current permit.

Period of Activity: Until February 7, 2003, if issued.

Applicant: Mark Clementz, Earth Science Department, University of California, Santa Cruz, CA, PRT-038747

Permit Type: Take for scientific research.

Name and Number of Animals: West Indian manatee (Trichechus manatus latirostris), up to 30 specimens providing 1 tooth sample and 1 bone sample.

Summary of Activity to be Authorized: The applicant has requested a permit for the purpose of scientific research to analyze samples of teeth and bone from specimens in a museum collection for assessment of the role that diet plays on manatee health in the wild.

Source of Marine Mammals: archived specimens in the Florida State Museum of Natural History.

Period of Activity: Up to 5 years, if issued.

Concurrent with the publication of this notice in the Federal Register, the Division of Management Authority is forwarding copies of the above applications to the Marine Mammal Commission and the Committee of Scientific Advisors for their review.

Applicant: William Cunningham, MD, Hillsborough, NJ, PRT-042218

The applicant requests a permit to import a polar bear (Ursus maritimus) sport hunted from the Lancaster Sound polar bear population in Canada, taken in March 2001 for personal use.

Applicant: Lee Anderson, Jr., Long Lake, MN, PRT-042060

The applicant requests a permit to import a polar bear (Ursus maritimus) sport hunted from the Lancaster Sound polar bear population in Canada, taken in March 2001 for personal use.

Applicant: Robert V. Polito, Lebanon, PA, PRT-041826

The applicant requests a permit to import a polar bear (Ursus maritimus) sport hunted from the Northern Beaufort polar bear population in Canada, taken in March 2001 for personal use.

Applicant: Jay W. Furney, Pueblo, CO, PRT-037656

The applicant requests a permit to import a polar bear (Ursus maritimus) sport hunted from the Northern Beaufort polar bear population in Canada, taken in February 2001 for personal use.

Applicant: David Polke, Southbury, CT, PRT-042518

The applicant requests a permit to import a polar bear (Ursus maritimus) sport hunted from the Lancaster Sound polar bear population in Canada, taken in March 2001 for personal use.

Applicant: John E. Link, Minong, WI, PRT-042520

The applicant requests a permit to import a polar bear (Ursus maritimus) sport hunted from the Lancaster Sound polar bear population in Canada, taken in March 2001 for personal use.

Applicant: Daniel Welch, Curran, MI, PRT-042573

The applicant requests a permit to import a polar bear (Ursus maritimus) sport hunted from the Northern Beaufort Sea polar bear population in Canada, taken in April 2001 for personal use.

Applicant: John Van Horn, Mifflintown, PA, PRT-042638

The applicant requests a permit to import a polar bear (Ursus maritimus) sport hunted prior to May 31, 2000, from the McClintock Channel polar bear population in Canada, taken in April 2000 for personal use.

Applicant: William Carvajal, El Paso, TX, PRT-042636

The applicant requests a permit to import a polar bear (Ursus maritimus) sport hunted from the Lancaster Sound polar bear population in Canada, taken in April 2001 for personal use.

Applicant: Danny Spindler, Evansville, IN, PRT-042635

The applicant requests a permit to import a polar bear (Ursus maritimus) sport hunted from the Lancaster Sound polar bear population in Canada, taken in April 2001 for personal use.

Applicant: Gary Sorensen, Paradise, UT, PRT-042199

The applicant requests a permit to import a polar bear (Ursus maritimus) sport hunted from the Southern Beaufort polar bear population in Canada, taken in April 2001 for personal use.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); Fax: (703/358-2281).

Dated: May 11, 2001.
Anna Barry,
Senior Permit Biologist, Branch of Permits, Division of Management Authority.

[FR Doc. 01-12831 Filed 5-21-01; 8:45 am]

BILLING CODE 4310-55-P